ENVIRONMENTAL PROTECTION AGENCY

40 CFR Part 69

[Region 2 Docket No. VI-5-265 W, FRL-7627-3]

An Exemption From the Requirements of the Clean Air Act for the Territory of United States Virgin Islands; Withdrawal of Direct Final Rule

Correction

In rule document 04-4386 appearing on page 9216, in the issue of Friday, February 27, 2004, make the following correction:

On page 9216, in the first column, in the third line, the CFR part number is corrected to read as set forth above.

[FR Doc. C4-4386 Filed 3-12-04; 8:45 am]

BILLING CODE 1505-01-D